DEPARTMENT OF ENERGY

Federal Energy Regulatory Commission

[Docket No. EL07-69-000]

Western Systems Power Pool Agreement; Notice of Institution of Proceeding and Refund Effective Date

June 22, 2007.

On June 21, 2007, the Commission issued an order that instituted a proceeding in the above-referenced docket, pursuant to section 206 of the Federal Power Act (FPA), 16 U.S.C. 824c, to investigate whether the Western Systems Power Pool Agreement ceiling rate is just and reasonable for a public utility seller in markets in which such seller has been found to have market power or is presumed to have market power. Western System Power Pool, 119 FERC ¶ 61,302 (2007).

The refund effective date in the above-docketed proceeding, established pursuant to section 206(b) of the FPA, will be the date of publication of this notice in the Federal Register.

Kimberly D. Bose,
Secretary.

[FR Doc. E7-12611 Filed 6-28-07; 8:45 am]

BILLING CODE 6717-01-P